DEPARTMENT OF TRANSPORTATION

Federal Aviation Administration

Notice of Intent of Waiver With Respect to Land; Prairie Du Chien Municipal Airport, Prairie Du Chien, WI

AGENCY: Federal Aviation Administration (FAA), DOT.

ACTION: Notice.

SUMMARY: The FAA is considering a proposal to change 0.38 acres of Clear Zone Easement contained in Parcel 17 to Avigation Easement in exchange for converting 1.23 acres of Avigation Easement contained in Parcel 20 to Clear Zone Easement. Both Parcel 17 and Parcel 20 share a common boundary and are owned by Crossing Rivers Health Center located at Prairie du Chien Municipal Airport, Prairie du Chien, WI. The proposed release of 0.38 acres of Clear Zone Easement to Avigation Easement is not in the Runway Protection Zone (RPZ). Of the easement being converted to Clear Zone from Avigation Easement in exchange for the release, 0.89 acres (of the 1.23 acres) lies in the RPZ, which brings that portion of the RPZ into conformance with FAA standards and policies.

The release of 0.38 acres from Clear Zone Easement to Avigation Easement is required to build an Access Road to the Crossing Rivers Health Center and install a sign for the hospital. The conversion from Clear Zone Easement to Avigation Easement will not result in any impact to surfaces protected by Part 77 or airport design surfaces. The Clear Zone Easement was originally purchased to enable the Airport to ensure airport compatible development. The proposed future use of 0.38 acres of the land as an access road will prevent any incompatible development of the surrounding area in the RPZ.

DATES: Comments must be received on or before January 4, 2019.

ADDRESSES: Documents are available for review by appointment at the FAA Chicago Airports District Office, Richard Pur, Chicago Airports District Office, 2300 East Devon Avenue, Des Plaines, IL 60018, Telephone: (847) 294-7527/Fax: (847) 294-7046 and City of Prairie Du Chien, 37735 US Highway 18, Prairie Du Chien, WI 53821, Telephone: (608) 326-2118.

Written comments on the Sponsor's request must be delivered or mailed to: Richard Pur, Program Manager, Federal Aviation Administration, Chicago Airports District Office, 2300 East Devon, Ste. 320, Des Plaines, IL 60018, Telephone: (847) 294-7527/Fax: (847) 294-7046.

FOR FURTHER INFORMATION CONTACT: Richard Pur, Program Manager, Federal Aviation Administration, Chicago Airports District Office, 2300 East Devon, Ste. 320 Des Plaines, IL 60018, Telephone: (847) 294-7527/Fax: (847) 294-7046.

SUPPLEMENTARY INFORMATION: In accordance with section 47107(h) of Title 49, United States Code, this notice is required to be published in the Federal Register 30 days before modifying the land-use assurance that requires the property to be used for an aeronautical purpose.

The Clear Zone Easement (within Parcel 17) is owned by the City of Prairie du Chien. The easement was originally purchased to ensure airport compatible development.

Based on current Fair Market Value of Clear Zone Easement and Avigation Easement being released and acquired in exchange, the net gain to the airport in value of easements is $11,249.00.

This notice announces that the FAA is considering the release of the subject airport property at the Prairie du Chien Municipal Airport, Prairie du Chien, WI from federal easement covenants, subject to a reservation for continuing right of flight as well as restrictions on the released property as required in FAA Order 5190.6B section 22.16. Approval does not constitute a commitment by the FAA to financially assist in the disposal of the subject airport property nor a determination of eligibility for grant-in-aid funding from the FAA.

Easement Parcel 1, Part of Airport Parcel 17 (Legal Description) Avigation Easement Converted From Clear Zone Easement per Proposed Release

Avigation Easement located in Farmlot 43, of the Private Land Claims at Prairie du Chien, City of Prairie du Chien, Crawford County, Wisconsin. Also being part of Lot 1, Crawford County Certified Survey Map Number 237, Document Number 207064 recorded in the Crawford County Register of Deeds Office, described as follows:

Commencing at the Northeast Corner of Farmlot 43, of the Private Land Claims at Prairie du Chien; thence S79°36′51″ W, 688.32 feet along the north line of Farmlot 43; thence S10°23′09″ E, 1370.77 feet to a found ¾″ iron re-bar at the Northeast Corner of Lot 1, Crawford County Certified Survey Map Number 237, Document Number 207064 recorded in the Crawford County Register of Deeds Office; thence N69°31′09″ W, 242.02 feet along the north line of said Lot 1, Crawford County Certified Survey Map Number 237 to a set ¾″ iron rebar, said point being the Point of Beginning of this Avigation Easement; thence S27°44′00″ W, 87.40 feet to a set ¾″ iron rebar to the beginning of a curve; Thence Southwesterly, 42.36 Feet along the arc of a curve to the left, radius of 167.00 Feet, central angle of 14°31′58″, (the long chord of which bears S20°28′01″ W, 42.25 Feet) to the end of said curve and a set ¾″ iron rebar; thence S13°12′02″ W, 136.02 to the southerly line of said Lot 1, Crawford County Certified Survey Map Number 237 to a set ¾″ iron rebar; thence N47°16′51″ W, 75.84 feet along the south line of said Lot 1, Crawford County Certified Survey Map Number 237 to a set ¾″ iron rebar; thence N13°12′02″ E, 98.65 feet to a set ¾″ iron rebar to the beginning of a curve; Thence Northeasterly, 59.10 Feet along the arc of a curve to the right, radius of 233.00 Feet, central angle of 14°31′58″, (the long chord of which bears N20°28′01″ E, 58.94 Feet) to the end of said curve and a ¾″ iron rebar; thence N27°44′00″ E, 79.00 feet to the north line of said Lot 1, Crawford County Certified Survey Map Number 237 to a set ¾″ iron rebar; thence S69°31′09″ E, 66.53 feet along the north line of said Lot 1, Crawford County Certified Survey Map Number 237 to the Point of Beginning.

Containing 0.38 acres more or less.

Issued in Des Plaines, IL on November, 28, 2018.
Deb Bartell,
Manager, Chicago Airports District Office, FAA, Great Lakes Region.

[FR Doc. 2018-26476 Filed 12-4-18; 8:45 am]

BILLING CODE 4910-13-P